DEPARTMENT OF HOUSING AND URBAN DEVELOPMENT

[Docket No. FR-5332-N-01]

Proposed Notice of Funding Availability (NOFA) for HUD's Fiscal Year (FY) 2009 Rental Assistance for Non-Elderly Persons With Disabilities; Request for Comments

AGENCY: Office of the Assistant Secretary for Public and Indian Housing, HUD.

ACTION: Proposed notice of HUD's Fiscal Year 2009 Notice of Funding Availability (NOFA) for Rental Assistance for Non-Elderly Persons with Disabilities and request for comments.

SUMMARY: The Omnibus Appropriations Act, 2009 (Pub. L. 111-8) makes available $30 million for incremental Section 8 Housing Choice Vouchers (HCV) for non-elderly disabled families served by entities (which this NOFA will limit to public housing agencies (PHAs)) with demonstrated experience and resources for supportive services). This money should fund approximately 4,000 HCVs. Approximately 25 percent ($7,500,000 and 1,000 HCVs) will be made available for non-elderly families transitioning out of nursing homes and other institutions into the community. To permit the Department to better design the distribution of this assistance, particularly as it relates to transitioning non-elderly disabled families out of nursing homes and other institutions and the NOFA's tie-in to the Money Follows the Person (MFP) Demonstration administered by the Department of Health and Human Services, HUD is soliciting public comment. Comments addressing the threshold factors used to distribute this assistance and whether HUD should establish a more performance-based method for distributing vouchers, and how the State institutional transition programs such as the MFP Demonstration can work effectively with the PHAs that are awarded vouchers for this purpose are also welcome. All comments will be considered during the development of the final NOFA published by HUD.

DATES: Comment Due Date: July 13, 2009.

ADDRESSES: Interested persons are invited to submit comments to the U.S. Department of Housing and Urban Development, Office of Public and Indian Housing, Housing Voucher Management and Operations Division, 451 7th Street, SW., Room 4210, Washington, DC 20410, ATTN: Phyllis Smelkinson. Individuals interested in submitting comments electronically may forward them by e-mail to NEDVoucherNOFA@hud.gov. All comments must refer to the above docket number and title. Facsimile (FAX) comments will not be accepted.

FOR FURTHER INFORMATION CONTACT: Questions regarding specific HCV program requirements should be directed to Phyllis Smelkinson by phone at (202) 402-4138 or by e-mail at Phyllis.A.Smelkinson@hud.gov or the NOFA Information Center at (800) HUD-8929 (toll-free). Persons with hearing or speech impairments may access these numbers via TTY by calling the Federal Information Relay Service at (800) 877-8339. The NOFA Information Center is open between the hours of 10 a.m. and 6:30 p.m. eastern time, Monday through Friday, except Federal holidays.

Overview Information

A. Federal Agency Name: Department of Housing and Urban Development, Office of Public and Indian Housing.

B. Funding Opportunity Title: Rental Assistance for Non-Elderly Persons With Disabilities.

C. Announcement Type: Initial announcement.

D. Funding Opportunity Number: OMB Approval Numbers applicable to this NOFA are 2577-0169 and 2577-0083

E. Catalog of Federal Domestic Assistance (CFDA) Number(s): 14.871, Section 8 Housing Choice Vouchers.

F. Dates:

1. Application Receipt Requirements and Date: HUD is not currently accepting applications for this assistance. HUD will require applicants to submit applications electronically through Grants.gov. Please see the Notice of HUD's Fiscal Year (FY) 2009 Notice of Funding Availability (NOFA); Policy Requirements and General Section to HUD's FY 2009 NOFAs for Discretionary Programs (General Section) published in the Federal Register on December 29, 2008 (73 FR 79548), for information on the Grants.gov registration process. All applicants must have a DUN and Bradstreet Universal Numbering System (DUNS) number, have a current registration in the Central Contractor Registration (CCR), and be registered with Grants.gov to submit an application electronically. All applicants regardless of submission through Grants.gov or in paper format must have a DUNS number and be registered in CCR to receive an award of funds from HUD. See the General Section for further details.

2. Estimated Grant Award Date. The estimated award date will be included in the final NOFA published by HUD.

G. Additional Important Overview Information:

1. Approximately $22,500,000 that will support about 3,000 HCVs under this NOFA will enable non-elderly disabled families on a PHA's waiting list to access affordable housing (Category 1). Approximately $7,500,000 that will support about 1,000 HCVs under this NOFA will enable non-elderly persons with disabilities to transition from nursing homes and other health care institutions into the community (Category 2). Individuals in Category 2 must be admitted from the PHA's waiting list and assisted through a preference as stated in the PHA's Administrative Plan for transitioning persons from institutions. Any non-elderly disabled family or individual on the PHA waiting list is eligible for a Category 1 voucher, however, HUD encourages PHAs to consider establishing a selection preference to make some or all of its Category 1 allocation available to disabled families or individuals that without housing assistance, are at risk of institutionalization.

2. Application materials. The FY2009 General Section and Notice of Funding Availability (NOFA) and application materials will be available for download via the Federal portal http://www.grants.gov at http://www.grants.gov/applicants/apply_for_grants.jsp.

Full Text of Announcement

I. Funding Opportunity Description

A. Available Funds

This NOFA announces the availability of $30 million in one-year budget authority for HCVs for non-elderly disabled families which should fund approximately 4,000 vouchers. Of that amount, $22,500,000 will be allocated for non-elderly disabled families on the PHA's waiting list and up to $7,500,000 will be allocated for non-elderly disabled families transitioning from nursing homes and other institutions into the community. Any funds remaining unobligated under HUD's FY 2008 NOFAs entitled “Rental Assistance for Non-Elderly Persons with Disabilities in Support of Designated Housing Plans (Designated Housing)” (November 28, 2008, 73 FR 72513) or “Rental Assistance for Non-Elderly Persons with Disabilities Related to Certain Types of Section 8 Project-Based Developments and Sections 202, 221(d)(3), and 236 Developments (Certain Developments)” (November 28, 2008, 73 FR 72507) will also be made available under this NOFA under Category 1. (Pursuant to the Consolidated Appropriations Act, 2008, any funds still remaining unobligated under the aforementioned NOFAs will be available for other non-elderly disabled families through a subsequent NOFA. Based on that authority, if there are any funds still remaining unobligated under those NOFAs, that funding will be assigned to Category 1 under this NOFA.)

B. Purpose of This Program

HCVs under this NOFA will enable non-elderly disabled families to access affordable housing.

C. Legal Authority

See SUMMARY section above.

D. Definitions of Terms

The following definitions apply to funding available under this NOFA.

1. Elderly Family

A family whose head, spouse, or sole member is 62 years or older. It may include two or more elderly persons living together, or one or more elderly persons living with one or more persons determined under the public housing agency plan to be essential to their care or well being.

2. Non-elderly Disabled Family

A family that does not meet the definition of an elderly family whose head, spouse, or sole member is a person with disabilities.

3. Person With Disabilities

See definition under 24 CFR 5.403.

4. Nursing Homes and/or Other Institutions

This definition includes intermediate care facilities and specialized institutions that care for the mentally retarded, developmentally disabled or mentally ill, but excludes board and care facilities (e.g. adult homes, adult day care, adult congregate living). For full definitions of these eligible facilities, please reference Chapter 2 of Handbook 4600.1 REV-1: Section 232 Mortgage Insurance for Residential Care Facilities.

II. Award Information

A. HCV Funding Process

For each category, HUD will only fund one application per PHA under this announcement. This one-application-per-PHA limit under each category applies regardless of whether or not the PHA is a State or regional PHA. A PHA may submit an application for funding under Category 1 and an application for funding under Category 2.

1. Maximum Voucher Request

A PHA may apply for a total of 10 percent of its HCV authorized baseline units or 200 vouchers, whichever is less. The PHA may apply for both categories under this NOFA, but may not exceed the maximum voucher request. A separate application must be submitted for each category. For Category 2, the number of vouchers requested by the PHA may not exceed the number of vouchers that the partnering resource agency is projecting will be needed to assist transitioning individuals over a 12-month period (see section IV.B.2.f. of this NOFA).

2. Determination of Funding Amount for the Applicant's Requested Number of Vouchers

HUD's Housing Voucher Financial Management Division will determine the amount of one-year budget authority that an applicant will be awarded under this NOFA based on the PHA's per unit cost for 2009 renewal funding or 2010 renewal funding, depending on the most recently available data. Administrative fees are not included in this funding and will be determined in accordance with section 10 of Public and Indian Housing (PIH) Notice 2008-15 (HA) or a subsequent administrative fee notice (a copy of all PIH notices referenced in this NOFA may be downloaded at http://www.hudclips.org). PIH Moving to Work (MTW) agencies will be funded under this NOFA in accordance with their MTW agreements.

3. Unfunded Approvable Applications

PHAs with approvable applications that are not funded in whole or in part due to insufficient funds available under this NOFA will not be funded.

III. Eligibility Information

A. Eligible Applicants

PHAs that currently administer a HCV program are eligible to apply for funding under this NOFA.

B. Cost Sharing or Matching

None required.

C. Other Requirements

1. Eligible Activities

HCVs awarded under this NOFA will be subject to all of the requirements of 24 CFR part 982. MTW agencies may administer these vouchers in accordance with their MTW agreements unless they are inconsistent with Appropriations Act requirements or the requirements of this NOFA. The Omnibus Appropriations Act of 2009 states that assistance made available under this section of the Act shall continue to remain available for non-elderly families upon turnover. Therefore, upon turnover, these vouchers (both Category 1 and Category 2, as defined below, must be made available only to non-elderly disabled families on the PHA's waiting list. Note that a Category 2 voucher does not necessarily have to be issued to another Category 2 family upon turnover, but must be re-issued to a non-elderly disabled family.

2. Threshold Requirements

a. All applicants must meet all threshold requirements provided in Section III.C of the General Section except for Section III.C.2.d and Section III.C.4.b., where the requirements under this NOFA are applicable as follows:

(1) Section III.C.2.d. (Conducting Business in Accordance with Core Values and Ethical Standards). To reflect core values, all applicant PHAs awarded under this NOFA shall develop and maintain a written code of conduct in the PHA's administrative plan that: (a) Requires compliance with the conflict of interest requirements of the HCV program cited in 24 CFR 982.161; and (b) Prohibits the solicitation or acceptance of gifts or gratuities in excess of a nominal value by an officer or employee of the HA or any contractor, subcontractor, or agent of the PHA. The PHA's administrative plan shall state the PHA policies concerning PHA administrative and disciplinary remedies for violation of the PHA code of conduct. The PHA shall inform all officers, employees and agents of its organization of the PHA's code of conduct.

(2). Section III.C.4.b. (Affirmatively Furthering Fair Housing). Prior to the application due date under this NOFA, each applicant must submit to the public housing director in the applicant's local HUD field office an addendum to the applicant's HCV administrative plan that outlines reasonable steps the applicant will take to affirmatively further fair housing in regard to the vouchers awarded under this NOFA. Reasonable steps must include informing affected applicants on how to file a fair housing complaint including the provision of the toll free number for the Housing Discrimination Hotline: 1-800-669-9777 and the Federal Information Relay Service at (800) 887-8339.

Further, an applicant must comply with the affirmatively furthering fair housing requirements of 24 CFR Section 903.7(o) by: (a) Examining its programs or proposed programs; (b) identifying any impediments to fair housing choice within those programs; (c) addressing those impediments in a reasonable fashion in view of the resources available; (d) working with local jurisdictions to implement any of the jurisdiction's initiatives to affirmatively further fair housing that require the PHA's involvement; and (e) maintaining records reflecting these analyses and actions. Further, applicant PHAs are encouraged to take the following proactive steps in addressing accessibility problems for persons with disabilities: (f) Where requested by an individual, assist program applicants and participants gain access to supportive services available within the community, but not require eligible applicants or participants to accept supportive services as a condition of continued participation in the program; (g) Identify public and private funding sources to assist participants with disabilities in covering the costs of structural alterations and other accessibility features that are needed as accommodations for their disabilities; (h) Not deny persons who qualify for a HCV under this program other housing opportunities, or otherwise restrict access to PHA programs to eligible applicants who choose not to participate; (i) Provide housing search assistance; (j) In accordance with rent reasonableness requirements, approve higher rents to owners that provide accessible units with structural modifications for persons with disabilities; and (k) Provide technical assistance, through referrals to local fair housing and equal opportunity offices, to owners interested in making reasonable accommodations or units accessible to persons with disabilities.

b. Applications under this NOFA must also meet the following threshold requirements to be eligible for funding under this NOFA.

(1) Each applicant must meet the PIC reporting requirements of 95 percent under PIH Notice 2007-29(HA) that will be assessed for the month immediately preceding the month in which the applications under this NOFA are due. MTW agencies must meet a reporting requirement of 85 percent, consistent with existing MTW reporting requirements.

(2) Each applicant must have achieved points (15 or 20) under the Section 8 Management Assessment Program (SEMAP) leasing indicator (24 CFR 985.3(n)) and not be designated as troubled for its most recent assessed fiscal year. MTW agencies that are not required to report under SEMAP shall be held to the 95 percent lease-up and budget authority utilization requirements referenced above. These MTW agencies are required to submit a certification with their application certifying that they are not required to report under SEMAP, and that they meet the 95 percent lease-up or budget authority utilization requirements.

(3) The PHA applicant must not have any major unresolved program management findings from an Inspector General audit, HUD management review or Independent Public Accountant (IPA) audit for the PHA's HCV program or other significant program compliance problems (such as fair housing and/or civil rights violations or findings) that were not resolved or in the process of being resolved (as determined by the local field office) prior to this NOFA's application deadline. Major program management findings, or significant program compliance problems, are those that would cast doubt on the capacity of the applicant to effectively administer any new HCV funding in accordance with applicable HUD regulatory and statutory requirements.

(4) The PHA must not be involved in litigation where HUD determines that the litigation may seriously impede the ability of the applicant to administer the vouchers.

(5) The PHA must demonstrate experience and resources for supportive services (See Section IV.B.e. and Section IV.B.f.).

3. Eligible Participants

Non-elderly disabled families that are income eligible under 24 CFR 982.201(b)(1).

4. Environmental Review

In accordance with 24 CFR 50.19(b)(11) and 58.35(b)(1) of the HUD regulations, tenant-based rental activities under this program are categorically excluded from the requirements of the National Environmental Policy Act of 1969 (NEPA) and are not subject to environmental review under the related laws and authorities. Activities under the homeownership option for existing units and for units under construction at the time the family enters into the contract for sale are categorically excluded from NEPA requirements and excluded from other environmental requirements under 24 CFR Section 58.5 in accordance with 24 CFR Section 58.35(b)(5), but PHAs are responsible for the environmental requirements in 24 CFR Section 982.626(c). With regard to activities under the homeownership option for units not yet under construction at the time the family enters into the contract for sale, the additional environmental review requirements referenced in 24 CFR Sections 982.628(e), 982.631(c)(3) and 982.637(b) also apply in addition to Section 982.626(c), and the PHA shall submit all relevant environmental information to the responsible entity or to HUD to assist in the completion of those requirements.

IV. Application and Timely Receipt Information

HUD is not currently accepting applications. The information presented in this Section IV is offered to provide individuals interested in submitting public comment to consider HUD's proposed application procedures.

A. Addresses to Request Application Package

This section describes how the applicant may obtain application forms, additional information about the General Section, and how to obtain technical assistance.

1. Copies of this published NOFA and related application forms may be downloaded from the Grants.gov Web site at http://www07.grants.gov/applicants/apply_for_grants.jsp. If the applicant has difficulty accessing the information, it may receive customer support from Grants.gov by calling the help line at (800) 518-GRANTS ((800) 518-4726) or by sending an e-mail to support@grants.gov. The operators will assist the applicant in accessing the information. If the applicant does not have Internet access and need to obtain a copy of this NOFA, it can contact HUD's NOFA Information Center toll-free at (800) HUD-8929. Persons with hearing or speech impairments may call the Federal Information Relay Service at (800) 877-8339.

B. Content of Application Under This NOFA

Each PHA must complete the following forms:

1. Form SF-424, Application for Federal Assistance. Every application must contain a SF-424 as the cover page to the application. When completing this form, the Federal Identifier requested in section 5a is the PHA's five digit number (e.g., MD035 or AK002). PHA applicants should estimate proposed start date and end date in section 17. In Section 18 (Estimated Funding), complete only 18.a and 18.g. The amount entered in both fields should be the total number of vouchers requested in Section B of the form HUD-52515 times the housing assistance payments per unit cost for 2009 HCV renewal funding or 2010 HCV renewal funding, depending on the most recent available data.

2. Form HUD-52515, Funding Application, Section 8 Tenant-Based Assistance, Rental Certificate Program, Rental Voucher Program. A separate application must be submitted for Category 1 and Category 2 if the PHA wants to request HCVs under both categories. When completing this form, only complete the box for total dwelling units under vouchers in section B. Do not complete sections A or C. In section D of the form, the PHA applicant must provide the following information:

a. The category of funding (Category 1 or Category 2).

b. The number of authorized baseline HCV units.

c. The number of HCVs requested.

d. The minimum number of vouchers the PHA is willing to accept under this category if selected under a lottery system.

e. To demonstrate PHA experience:

(1) At least 20 percent of the PHA's HCVs are used by non-elderly disabled families as reflected in PIC for the end of the month prior to the submission date; or

(2) The PHA has a preference on its waiting list for non-elderly disabled families as recorded in its administrative plan as documented by that section of the administrative plan attached to the application; or

(3) The PHA has been previously funded for one of the following special purpose voucher allocations: Rental Assistance for Non-Elderly Persons with Disabilities in Support of Designated Housing Plans; Rental Assistance for Non-Elderly Persons with Disabilities Related to Certain Types of Section 8 Project-Based Developments; Mainstream Housing Opportunities for Persons with Disabilities and the Project Access Pilot Program.

f. To demonstrate that the applicant PHA has resources for supportive services for non-elderly disabled families, the applicant PHA must describe those resources in full detail in this section. In addition, for Category 2, the PHA must identify the partnering resource agency and describe the provision of supportive services for a transitioned person. The PHA must also specify the number of vouchers that the partnering resource agency is projecting will be needed to assist transitioning individuals over a 12-month period. The number of vouchers requested by the PHA under Category 2 may not exceed this number.

Supportive services for Category 2 vouchers must include the provision of care/case management, in addition to the needed health and social services. These services are usually funded through the State Medicaid program and provided by local home care agencies. In 29 States and the District of Columbia, the Medicaid programs have been awarded demonstration funds from the U.S. Department of Health and Human Services (HHS) to provide the needed supportive services a transitioned person needs to live safely and as independently as possible in the community (the Money follows the Person (MFP) demonstration). For a person who is transitioning under this demonstration, the contact partnering resource agency is the MFP program within the State Medicaid program. More information on MFP can be found at http://www.cms.hhs.gov/DeficitReductionAct/20_MFP.asp. All persons that are transitioning as a MFP participant are guaranteed to receive the needed health and social services. Therefore, the only resource documentation that is needed in these instances is evidence of MFP participation by the partnering resource agency.

For PHAs located in States not participating in the MFP demonstration, the PHA should contact the State Medicaid Program to determine if similar supportive services and individual referrals will be made available for these Category 2 vouchers. A PHA that is not located in a State participating in the MFP demonstration must describe the resources that will be made available to the transitioning individual by the partnering resource agency if the PHA is applying for voucher funding under Category 2.

During the 60-day preparation period for submission of this NOFA, HUD in collaboration with the U.S. Department of Health and Human Services will provide information, outreach and technical assistance to PHAs interested in applying for Category 2 vouchers.

3. Form HUD-2880, Applicant/Recipient Disclosure/Update Report;

4. Form HUD-2993, Acknowledgment of Application Receipt only required if paper application;

5. Form HUD-2991, Certification of Consistency with the Consolidated Plan, or a copy of the signed PHA Certification of Compliance for its current Annual PHA Plan; and

6. SF-LLL, Disclosure of Lobbying Activities, if applicable.

7. You Are Our Client Grant Application Survey (HUD-2994-A) (Optional); and

8. HUD Facsimile Transmittal (HUD-96011, Third Party Documentation Facsimile Transmittal).

C. Receipt Instructions

Applications under this NOFA must be received electronically through the Federal Web site Grants.gov, unless a waiver of this requirement is granted in accordance with the instructions below. The procedures for electronic submission of applications published in HUD's General Section on December 29, 2008 (73 FR 79548) including the provisions at Section IV.C., entitled “Receipt Dates and Times,” removed by HUD's Amendment to the General Section published on April 16, 2009 (74 FR 17685) are reinstated and apply to this NOFA. Applicants must follow the instructions on the December 29, 2008 General Section, unless a waiver for cause in accordance with HUD's waiver policy of 24 CFR 5.1005, to the electronic application requirements is approved by HUD. Applicants requesting a waiver should submit their waiver requests in writing using e-mail or fax. Waiver requests must be submitted no later than 15 days prior to the application deadline date and must be submitted in writing or by e-mail to Phyllis A. Smelkinson, Housing Program Specialist, Housing Voucher Management, Office of Public and Indian Housing, U.S. Department of Housing and Urban Development, 451 7th Street, SW., Washington, DC 20410. You can e-mail requests to Ms. Smelkinson at Phyllis.A.Smelkinson@hud.gov. The subject line of the e-mail message should be (insert applicant name) FY09 Rental Assistance for Non-Elderly Persons with Disabilities Waiver Request. If an applicant is granted a waiver, then the approval will provide instructions for submitting paper copies to the appropriate HUD office. All paper applications must be received by the application deadline date to meet the requirements for timely receipt.

Paper applications will not be accepted from applicants that have not been granted a waiver. If an applicant is granted a waiver, the approval notice will provide instructions for submission. All applications in paper format must have received a waiver to the electronic application requirement and the application must be received by HUD on or before the application deadline date.

1. The application deadline for receipt of HUD applications via Grants.gov is 11:59:59 p.m. on XXXX, 2009. Applications must be received by Grants.gov by the deadline in order to meet the program deadline. Received means that the application has been successfully uploaded to the Grants.gov server and the applicant has received confirmation of successful submission to Grants.gov. Applicants should be aware that hitting the “sign and submit” button to transmit the application does not mean the application has been successfully uploaded to Grants.gov. Only when the upload is complete is the application date and time stamped by the Grants.gov system. An application that has been rejected by Grants.gov is not deemed to have been received by Grants.gov. (Please see Section D.1. of the General Section for a detailed explanation of Timely Receipt Requirements and Proof of Timely Receipt.) As in the past, HUD encourages applicants to submit their applications early and with sufficient time to address any issues that might affect the applicant's ability to have an application successfully uploaded and received by Grants.gov.

In FY 2009, HUD is establishing a one-day grace period from the date of notification of a rejection from Grants.gov, to allow applicants that successfully upload an application to Grants.gov prior to the deadline date and time, but receive a rejection notice after the deadline date and time, to cure the reason for rejection and re-upload the application to Grants.gov. The paragraphs below describe HUD's Grace Period Policy for FY2009.

a. Applicants that have successfully uploaded their application to Grants.gov prior to the deadline, and subsequently receive a rejection notice from Grants.gov after the deadline date and time, will have a one-day grace period from the date stamp on the first Grants.gov rejection notice after the deadline, to cure the basis for the rejection and upload an application that corrects the problems cited in the rejection notice. Applicants can upload the application as many times as needed to cure noted deficiencies within the one-day grace period. The Grants.gov rejection notice identifies the reasons why the application was rejected. Applicants that do not understand the error messages received in the rejection notice should immediately contact the Grants.gov Help Desk so they can get assistance in clearing the problem. Generally, Grants.gov will reject an application because it contains an incorrect DUNS number or a DUNS number that does not match the AOR's registration, the application was submitted by an individual without proper authorization as the AOR, and/or the application contains file names that trigger a “VirusDetect” message. The grace period ends one day after the date stamp on the first rejection notice received after the deadline date.

Warning: Applications that contain file names which are longer than 50 characters (HUD recommends using file names with 32 characters or less), or contain spaces or special characters, will result in the file being detected as a virus by the Grants.gov system and the application will be rejected with a “VirusDetect” message. In FY2008, the use of spaces and special characters in file names, and the use of file names which were longer than fifty characters, resulted in the most instances of an applicant receiving a “VirusDetect” rejection. Applicants should also scan files for viruses because the Grants.gov system will also reject files with viruses.

Applications received by Grants.gov, including those received during the grace period, must be validated by Grants.gov to be rated or ranked or receive funding consideration by HUD. HUD will use the date and time stamp on the Grants.gov system to determine dates when the grace period begins and ends.

b. Applications uploaded to Grants.gov after the deadline date under the following circumstances do not qualify for the grace period and will not be considered for funding:

(1) Applications uploaded and received by Grants.gov after the deadline date and time for which there is no prior rejection notice in the Grants.gov system logs will be considered late and will not be rated and ranked or receive funding consideration. Failure to successfully upload the application to Grants.gov by the deadline date and time does not qualify for the grace period as described above.

(2) Applications receiving a rejection notice due to the funding opportunity being closed will not be provided the one day grace period to correct the “opportunity closed” deficiency or any other basis for rejection because the applicant missed the deadline date and time and therefore does not qualify for the grace period as described above.

(3) If an application is uploaded during the grace period and is subsequently rejected after the grace period ends, the applicant will not be afforded additional time to correct the deficiency(ies) noted in the rejection notice.

c. The grace period ends at 11:59:59 p.m. one day from the date stamp on the first rejection notice issued by the Grants.gov system to the e-mail address provided in the Grants.gov registration. Applicants must ensure that their e-mail notification address contained in the Grants.gov registration is up-to-date. Neither HUD nor Grants.gov will be responsible if e-mail messages are not received at the address listed in the registration process. Applicants must also ensure that their e-mail systems will accept messages from Grants.gov. Applicants are responsible for monitoring their e-mail messages. Messages from Grants.gov come from Support@grants.gov.

d. The only exceptions to HUD's grace period policy are:

(1) The Grants.gov system is down and not available to applicants for at least 24 hours prior to the deadline date, or the system is down for 24 hours or longer, impacting the ability of applicants to cure a submission deficiency within the grace period; and/or

(2) There is a presidentially declared disaster in the applicant's area. In the event of either or both of these events, HUD will publish a notice extending the deadline or cure period, for applicants affected, as appropriate.

e. Busy servers or slow processing are not the basis for HUD to extend the deadline dates or the grace period.

Applicants are advised to monitor the Grants.gov system using the Grants.gov blog at http://grants-gov.blogspot.com/. The Grants.gov blog provides information on server capacity, traffic on the Grants.gov site, and other Federal grant closings each day. Applicants should monitor the site and take into account the amount of traffic on the site when applying.

2. An applicant will not be provided additional opportunities to correct rejection errors if an application is rejected after the one-day grace period has expired.

As with any electronic system, applicants may experience issues when attempting to submit their application which does not permit the uploading of the application to Grants.gov. Such issues can be due to firewall and virus protection software that the applicant has placed on their system or network; proxy and cache settings; Internet traffic; limitation on the size of the files attempting to be transmitted established at the applicant's site or by the applicant's Internet provider; Grants.gov servers experiencing busy traffic; or any number of issues. Therefore, HUD strongly advises applicants to submit their applications at least 48 hours prior to the deadline and when the Grants.gov Help Desk is open so that assistance can be provided. Assistance may require diagnosing an applicant's particular issues. An applicant that does not follow HUD's advice increases the applicant's risk of not being able to meet the timely receipt requirements. A submission attempt less than the recommended 48 hours before the deadline does not allow the time needed to research the reason for the problem or to work with the applicant in overcoming the uploading difficulty. Similarly, attempting to submit within 24 hours of the deadline or when the Grants.gov Help Desk is closed does not allow the time needed for Grants.gov or HUD to provide the needed assistance. In addition, HUD staff cannot provide assistance or contact Grants.gov on your behalf after the Help Desk is closed. HUD strongly encourages applicants to carefully read the December 29, 2008 General Section for additional information regarding the Grants.gov registration process, submitting an application through Grants.gov, and timely receipt instructions. HUD also encourages applicants to submit their applications early with sufficient time to address issues that might prevent their applications from being received by Grants.gov.

Applicants should also note that Adobe has put out new versions of Adobe Reader compatible with Grants.gov. These versions are 8.1.5 and 9.1.1. Applicants must use the latest versions of the Adobe Reader compatible with Grants.gov, which are Adobe Reader 8.1.5 or 9.1.1.

D. Intergovernmental Review

This NOFA is not subject to Executive Order 12372, Intergovernmental Review of Federal Programs.

E. Funding Restrictions

Funds under this NOFA may only be used for housing assistance for eligible participants and may not be used for performance of routine HCV program functions that are reimbursed through HCV administrative fees.

V. Application Review Information

A. Criteria

1. Factors Used to Evaluate and Rate Applications

None.

B. Review and Selection Process

1. Technically Acceptable Applications

All technically acceptable applications that meet the threshold criteria of section III.C.2. above will be funded to the extent funds are available.

a. Funding Priority Categories

None.

b. Order of Funding

If funding under this NOFA is not available to fund all applications received by the NOFA deadline in each category, a lottery will be used until all funding is exhausted. If funding remains in either category, it will be used to fund the other category in lottery order.

c. Insufficient Funds

Not applicable.

2. Corrections to Deficient Applications

The Grants Management Center (GMC) may contact an applicant to clarify an item in its application or to correct a curable technical deficiency. Please note that clarifications or corrections of technical deficiencies in accordance with the information provided by HUD to the applicant must be submitted within 14 calendar days of the date of receipt of the HUD notification.

3. Unacceptable Applications

After the technical deficiency correction period (as provided in the General Section), the HUD GMC will disapprove PHA applications that it determines are not acceptable for processing. Applications from PHAs that fall into any of the following categories are ineligible for funding under this NOFA and will not be processed:

a. Any PHA that does not meet the threshold requirements of the General Section.

b. Any PHA that does not meet the threshold requirements of Section III.C.2. of this NOFA.

c. A PHA whose application does not comply with the requirements of this NOFA after the expiration of the 14-calendar day technical deficiency correction period;

d. A PHA whose application was received at grants.gov after the application deadline date; or

e. A PHA whose paper application that was approved for a waiver of the electronic application requirement was not received at the official place of receipt.

VI. Award Administration Information

A. Award Notices

Successful applicants in each category will receive an award letter from HUD. Funding will be provided to successful applicants as an amendment to the Annual Contributions Contract (ACC) of the applicant PHA.

Unsuccessful applicants will receive a notification of rejection letter from the GMC that will state the basis for the decision. The applicant may request an applicant debriefing. Beginning not less than 30 days after the awards for assistance are announced publicly, upon receiving a written request, HUD will provide a debriefing to the requesting applicant. See the General Section for additional information regarding a debriefing. Applicants requesting to be debriefed must send a written request to: Keia Neal, Acting Director, Grants Management Center at the e-mail address in Overview, Section F.

B. Administrative and National Policy Requirements

1. HUD's Strategic Goals

HUD is committed to ensuring that programs result in the achievement of HUD's strategic mission. HCVs awarded under this NOFA support the Department's strategic goals of: (1) Increasing homeownership opportunities, and (2) promoting decent, affordable housing by expanding access to these opportunities for non-elderly persons with disabilities. For more information about HUD's Strategic Plan and Annual Performance Plan, you may visit HUD's Web site at http://www.hud.gov/offices/cfo/reports/cforept.cfm.

C. Reporting

Successful applicants (including MTW agencies) must report the usage of voucher funds under this NOFA through required submissions of the form HUD-50058, Family Report. PHAs must enter the program code “NED” on line 2n of the HUD-50058 for non-elderly families served under this NOFA and “NHT” for those non-elderly families transitioning from nursing homes and other institutions into the community. PHAs must maintain these codes for the duration of the family's participation in the HCV program. HUD's assessment of PHA compliance under this NOFA will be based on PIC system data.

VII. Agency Contacts

A. For Technical Assistance

See FOR FURTHER INFORMATION CONTACT above or you may contact the Public and Indian Housing Resource Center at 1-800-955-2232. Persons with hearing or speech impairments may access this number via TTY (text telephone) by calling the Federal Information Relay Service at 1-800-877-8339. (These are toll-free numbers). Prior to the application deadline, staff at the numbers given above, will be available to provide general guidance, but not guidance in actually preparing the application. Following selection, but prior to award, HUD staff will be available to assist in clarifying or confirming information that is a prerequisite to the offer of an award by HUD.

B. Technical Corrections to the NOFA

Technical corrections to this NOFA will be published in the Federal Register which the applicant is responsible for monitoring.

VIII. Other Information

A. References

The following are hereby incorporated by reference:

1. Executive Order 13132, Federalism;

2. Public Access, Documentation, and Disclosure;

3. Section 103 of the HUD Reform Act.

B. Paperwork Reduction Act

The information collection requirements contained in this document have been approved by the Office of Management and Budget (OMB) under the Paperwork Reduction Act (PRA) of 1995 (44 U.S.C. 3501-3520) and assigned OMB control numbers 2577-0169 and 2577-0083. In accordance with the PRA, HUD may not conduct or sponsor, and a person is not required to respond to, a collection of information unless the collection displays a currently valid OMB control number.

C. Environmental Impact

This NOFA provides funding under, and does not alter the environmental requirements of 24 CFR part 982. Accordingly, under 24 CFR Section 50.19(c)(5), the NOFA is categorically excluded from environmental review under the National Environmental Policy Act of 1969 (42 U.S.C. 4321). For environmental review of activities funded under this NOFA, see requirements described in section III.C.4 above.

Dated: June 17, 2009.
Paula O. Blunt,
General Deputy Assistant, Secretary for Public and Indian Housing.

[FR Doc. E9-14651 Filed 6-19-09; 8:45 am]

BILLING CODE 4210-67-P